DEPARTMENT OF THE TREASURY

Submission for OMB Review; Comment Request

September 23, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before October 31, 2003 to be assured of consideration.

Internal Revenue Service (IRS)

OMB Number: 1545-0118.

Form Number: IRS Form 1099-PATR.

Type of Review: Extension.

Title: Taxable Distributions Received From Cooperatives.

Description: Form 1099-PATR is used to report patronage dividends paid by cooperatives (Internal Revenue Code section 6044). The information is used by IRS to verify compliance on the part of the recipient.

Respondents: Business or other for-profit.

Estimated Number of Respondents/Recordkeepers: 4,200.

Estimated Burden Hours Per Respondent/Recordkeeper: 16 minutes.

Frequency of Response: Annually.

Estimated Total Reporting/Recordkeeping Burden: 509,895 hours.

OMB Number: 1545-0717.

Form Number: IRS Form W-4S.

Type of Review: Extension.

Title: Request for Federal Income Tax Withholding From Sick Pay.

Description: Section 3402(o) of the Internal Revenue Code extends income tax withholding to sick pay payments made by third parties upon request of the payee. The information is used to determine the amount to be withheld from the third-party sick pay payment.

Respondents: Individuals or households.

Estimated Number of Respondents/Recordkeepers: 500,000.

Estimated Burden Hours Per Respondent/Recordkeeper:

Recordkeeping—39 min.

Learning about the law or the form—10 min.

Preparing and sending the form to the IRS—41 min.

Frequency of Response: On occasion.

Estimated Total Reporting/Recordkeeping Burden: 765,000 hours.

Clearance Officer: Glenn Kirkland, (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Mary A. Able,
Departmental Reports, Management Officer.

[FR Doc. 03-24880 Filed 9-30-03; 8:45 am]

BILLING CODE 4830-01-P